SECURITIES AND EXCHANGE COMMISSION

[Release No. 34-64824; File No. SR-CBOE-2011-063]

Self-Regulatory Organizations; Chicago Board Options Exchange, Incorporated: Notice of Filing and Immediate Effectiveness of Proposed Rule Change Relating to PULSe Fees

July 6, 2011.

Correction

In notice document 2011-17381, appearing on pages 40965-40967, the agency docket number was inadvertently omitted from the document heading. It should appear as seen above.

[FR Doc. C1-2011-17381 Filed 7-21-11; 8:45 am]

BILLING CODE 1505-01-D